NUCLEAR REGULATORY COMMISSION

Documents Containing Reporting or Recordkeeping Requirements: Office of Management and Budget (OMB) Review

AGENCY: U. S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: Revision.

2. The title of the information collection: Proposed Rule—10 CFR part 110, Export and Import of High-Risk Radioactive Materials: Security Policies.

3. The form number if applicable: NRC Form 7.

4. How often the collection is required: On occasion.

5. Who will be required or asked to report: Any licensee who wishes to export or import high-risk radioactive material subject to the requirements of a specific license.

6. An estimate of the number of annual responses: 1,005.

7. The estimated number of annual respondents: 30.

8. An estimate of the total number of hours needed annually to complete the requirement or request: 617 hours (2.4 hours per application, 15 minutes per notification and 15 minutes per recipient's certification to licensee).

9. An indication of whether section 3507(d), Pub. L. 104-13 applies: Applicable.

10. Abstract: The Nuclear Regulatory Commission (NRC is proposing to amend its regulations pertaining to the export and import of nuclear equipment and radioactive materials. This proposed rule reflects recent changes to the nuclear and radioactive material security policies of the Commission and the Executive Branch, for the import and export of radioactive material. A specific license will be required for the import and export of high-risk radioactive material.

Submit, by November 22, 2004, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the submittal may be viewed free of charge at the NRC Public Document Room, One White Flint North, 11555 Rockville Pike, Room O-1 F21, Rockville, MD 20852. The proposed rule indicated in “The title of the information collection” is or has been published in the Federal Register within several days of the publication date of this Federal Register notice. The OMB clearance package and rule are available at the NRC World Wide Web site: http://www.nrc.gov/public-involve/doc-comment/omb/index.html for 60 days after the signature date of this notice and are also available at the rule forum site, http://ruleforum.llnl.gov.

Comments and questions should be directed to the OMB reviewer by October 22, 2004: OMB Desk Officer, Office of Information and Regulatory Affairs (3150-0036 and 3150-0027), NEOB-10202, Office of Management and Budget, Washington DC 20503.

Comments can also be submitted by telephone at (202) 395-3087.

The NRC Clearance Officer is Brenda Jo. Shelton, 301-415-7233.

Dated in Rockville, Maryland, this 15th day of September, 2004.
For the Nuclear Regulatory Commission.
Brenda J. Shelton,
NRC Clearance Officer, Office of the Chief Information Officer.

[FR Doc. 04-21254 Filed 9-21-04; 8:45 am]

BILLING CODE 7590-01-P